DEPARTMENT OF ENERGY

Federal Energy Regulatory Commission

[Docket No. CP08-40-000]

Transcontinental Gas Pipe Line Corporation; Notice of Request Under Blanket Authorization

December 21, 2007.

Take notice that on December 18, 2007, Transcontinental Gas Pipe Line Corporation (Transco), Post Office Box 1396, Houston, Texas 77251, filed in Docket No. CP08-40-000, an application pursuant to sections 157.205, 157.208, and 157.212 of the Commission's Regulations under the Natural Gas Act (NGA) as amended, to construct and operate a new receipt point to receive revaporized liquefied natural gas in Beauregard Parish, Louisiana, under Transco's blanket certificate issued in Docket No. CP82-426-000,¹ all as more fully set forth in the application which is on file with the Commission and open to the public for inspection.

¹ 20 FERC ¶ 62,420 (1982).

Transco states that it proposes to construct and operate a new receipt point on Transco's mainline to receive revaporized liquefied natural gas from the Cheniere Trail LNG, L.P., import terminal via the Cheniere Creole Trail Pipeline. The taps into Transco's mainline would be located in Beauregard Parish, Louisiana. This new receipt point would provide Transco with the ability to receive up to 1 Bcf/day of revaporized LNG from the Cheniere Creole Trail Pipeline into Transco's mainline. Transco further states that it estimates the total cost to construct and operate the proposed receipt point at $1,700,000, for which Cheniere Trail Pipeline, L.P., would reimburse Transco for all costs associated with such facilities.

Any questions concerning this application may be directed to Bill Hammons, Staff Regulatory Analyst, Transcontinental Gas Pipe Line Corporation, P.O. Box 1396, Houston, Texas 77251, or via telephone at (713) 215-2130.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-45 Filed 1-7-08; 8:45 am]

BILLING CODE 6717-01-P